DEPARTMENT OF THE INTERIOR

Office of the Secretary

Central Utah Project Completion Act; East Hobble Creek Restoration Project Draft Environmental Assessment

AGENCY: Office of the Assistant Secretary for Water and Science, Interior.

ACTION: Notice of availability.

SUMMARY: The draft environmental assessment for the East Hobble Creek Restoration Project is available for public review and comment. The assessment analyzes the anticipated environmental effects of a proposed restoration effort on a portion of Lower Hobble Creek, near Springville, Utah.

DATES: Submit written comments by February 13, 2013.

ADDRESSES: Send written comments to Ms. Sarah Sutherland, East Hobble Creek Restoration, 355 W. University Parkway, Orem, UT 84058-7303; by email to sarah@cuwcd.com; or by Fax to 801-226-7171.

Copies of the Draft Environmental Assessment are available for inspection at:

• Central Utah Water Conservancy District, 355 West University Parkway, Orem, Utah 84058-7303

• Department of the Interior, Central Utah Project Completion Act Office, 302 East 1860 South, Provo, Utah 84606

In addition, the document is available at www.cuwcd.com and www.cupcao.gov.

FOR FURTHER INFORMATION CONTACT: Mr. Lee Baxter, Central Utah Project Completion Act Office, at (801) 379-1174; or email at lbaxter@usbr.gov.

SUPPLEMENTARY INFORMATION: The Department of the Interior, the Utah Reclamation Mitigation and Conservation Commission, and the Central Utah Water Conservancy District, are evaluating the impacts of the proposed East Hobble Creek Restoration project. The draft environmental assessment, being completed in conjunction with the June Sucker Recovery Implementation Program, will analyze and present the anticipated environmental effects of a proposed restoration effort on a portion of lower Hobble Creek, near Springville, Utah. This restoration effort is intended to facilitate the recovery of the June sucker, a federally listed endangered species, through improvement of spawning habitat and maintenance of stream flow. The effort to be analyzed would include the potential restoration of approximately 2 miles of stream channel, modification or removal of several existing barriers to fish passage, and enhancement of the existing water supply.

Public Disclosure

Before including your address, phone number, email address, or other personal identifying information in your comment, you should be aware that your entire comment—including your personal identifying information—may be made publicly available at any time. While you can ask us in your comment to withhold your personal identifying information from public review, we cannot guarantee that we will be able to do so.

Dated: January 9, 2013.
Reed R. Murray,
Program Director, Central Utah Project Completion Act. Department of the Interior.

[FR Doc. 2013-00656 Filed 1-11-13; 8:45 am]

BILLING CODE 4310-MN-P